NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 10, 2001. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@nara.gov. Requesters must cite the control number, which appears in parentheses after the name of the agency which submitted the schedule, and must provide a mailing address. Those who desire appraisal reports should so indicate in their request.

FOR FURTHER INFORMATION CONTACT: Michael Miller, Director, Modern Records Programs (NWM), National Archives and Records Administration, 8601 Adelphi Road, College Park, MD 20740-6001. Telephone: (301) 713-7110. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Fitzsimons Army Medical Center (N1-AU-00-2, 5 items, 5 temporary items). Master file, inputs, and outputs of the Fitzsimons Hospital Information System, an electronic information system pertaining to in-patient and out-patient medical treatment of military and civilian personnel. Also included are associated electronic indexes. Data in the system includes patient's name, social security number, reason for admission, laboratory reports, prescriptions, and discharge information. Microfiche outputs and indexes are proposed for a 50 year retention period.

2. Department of the Army, Agency-wide (N1-AU-00-22, 3 items, 2 temporary items). Inputs and backup materials relating to quarterly reports submitted by Army to the Defense Department concerning the propriety of intelligence activities, including electronic copies of documents created using electronic mail and word processing. Recordkeeping copies of the consolidated report Army submits are proposed for permanent retention.

3. Department of the Army, U.S. Army Europe (N1-AU-01-16, 2 items, 2 temporary items). Master file and outputs of the Vehicle Registry Inquiry Network, an electronic information system used to maintain accountability of service members' privately owned vehicles and firearms. The system includes such information as vehicle identification data, firearm registrations, and data concerning the service member, including name, rank, social security number, date of birth, unit assignment, and traffic offenses.

4. Department of the Army, Agency-wide (N1-AU-01-25, 11 items, 11 temporary items). Records relating to radiation safety, including training materials, radiation inspection files, radiation incident cases, material licensing records, operating logs, and decommissioning records. Also included are electronic copies of documents created using electronic mail and word processing. Most of the series included in this schedule were previously approved for disposal and are proposed for a longer retention period. Among these records are radiation operating logs, licensing files, radiation source accounting files, and radiation incident cases, which will be retained for 75 years.

5. Department of the Army, Agency-wide (N1-AU-01-28, 2 items, 2 temporary items). Files pertaining to complaints and investigations of non-government owned off-post housing. Included are such records as complaints from military personnel and owners or operators of housing facilities, investigative data, and electronic copies of documents created using electronic mail and word processing.

6. Department of Commerce, National Oceanic and Atmospheric Administration (N1-370-00-6, 10 items, 6 temporary items). Records related to aeronautical surveying and charting of airports and the configurations of coastlines of the United States, including digital distribution copies of aerial film, survey field files and charts for aeronautical surveys, survey project files for photogrammetric coastal surveys, and scanned images of photogrammetric descriptive reports. Also included are electronic copies of records created using electronic mail and word processing. Proposed for permanent retention are recordkeeping copies of original aerial film negatives and related finding aids, airport obstruction charts and data sheets, and photogrammetric descriptive reports.

7. Department of Commerce, U.S. Patent and Trademark Office (N1-241-01-3, 4 items, 3 temporary items). Records of public advisory committees consisting of working files, which include forms and records relating to administrative matters, and electronic copies of documents created using electronic mail and word processing. Proposed for permanent retention are recordkeeping copies of records relating to meetings, official speeches, final reports, and other files relating to the accomplishments of advisory committees.

8. Department of Commerce, U.S. Patent and Trademark Office (N1-241-01-4, 6 items, 6 temporary items). Electronic input data, paper reports, electronic outputs, master data files, and backup files associated with the Electronic Filing System. This system is used to submit utility patent applications, biosequence listings, and pre-grant publication resubmissions. Paper copies of outputs are filed in patent case files and were previously approved for permanent retention.

9. Department of Defense, Office of the Inspector General (N1-509-00-7, 28 items, 23 temporary items). Records relating to internal audits, audit follow-up, and routine audit and audit oversight projects. Also included are electronic copies of records created using electronic mail and word processing. Proposed for permanent retention are recordkeeping copies of files relating to audit planning, policies and procedures, and significant audit oversight projects. Recordkeeping copies of files relating to significant audits were previously approved for permanent retention.

10. Department of Defense, Defense Threat Reduction Agency (N1-374-01-1, 14 items, 8 temporary items). Records relating to treaty-related inspection activities, including weekly inspection reports of continuous monitoring sites, operations center logs of activities, copies of intelligence reports received from other agencies, notifications of impending inspections, equipment monitoring and certification files, and support facilities compliance plans. Also included are electronic copies of documents created using electronic mail and word processing. Recordkeeping copies of files relating to site inspections, continuous monitoring operations, and observation missions are proposed for permanent retention.

11. Department of Defense, Defense Threat Reduction Agency (N1-374-01-2, 6 items, 2 temporary items). Chemical and biological project oversight case files, including electronic copies of documents created using electronic mail and word processing. Records document the agency's role in overseeing chemical-biological defense activities carried out by the military services. Proposed for permanent retention are records relating to chemical and biological counter-terrorism activities.

12. Department of the Navy, Agency-wide (N1-NU-01-3, 19 items, 19 temporary items). Records relating to security matters accumulated at the operating level. Records relate to such matters as access to classified and unclassified records, the use of security containers, classified document receipt and destruction, courier authorizations, security directives management, and security surveys and inspections. Also included are electronic copies of records created using electronic mail and word processing. Most of the items in this schedule were previously approved for disposal and are proposed for an increased retention period. Records relating to overall security policies and procedures accumulated by higher echelon agency offices were previously approved for permanent retention.

13. Department of the Navy, Agency-wide (N1-NU-01-4, 9 items, 9 temporary items). General administration and management records relating to waivers and exceptions, additional duty designations, and agreements made by agency components covering payroll, logistical, and other support services. Also included are electronic copies of records created using electronic mail and word processing.

14. Department of the Navy, Agency-wide (N1-NU-01-5, 3 items, 3 temporary items). Espionage hotline records. Included are correspondence, preliminary inquiries, sound recordings, and memoranda of telephone conversations relating to information received by the Naval Criminal Investigative Service espionage hotline but not warranting referral. Also included are electronic copies of records created using electronic mail and word processing. Hotline records warranting referral are filed with counterintelligence investigations and reports case files that were previously scheduled for long-term retention in the case of files lacking historical value and permanent retention in the case of files of historical significance.

15. Department of State, Bureau of European Affairs (N1-59-01-14, 11 items, 6 temporary items). Records of the Office of the Special Representative of the President and the Secretary of State for Holocaust Issues, including files covering such administrative topics as arrangements for security and translator services, extra copies of briefing books and publications, and electronic copies of documents created using electronic mail and word processing. Proposed for permanent retention are recordkeeping copies of all reports and publications produced by the office as well as policy files.

16. Department of State, Bureau of Finance and Management Policy (N1-59-01-8, 41 items, 41 temporary items). Records accumulated by the Office of International Cooperative Administrative Support (ICASS) relating to sharing common administrative support costs overseas. Files relate to such matters as budgeting, briefings, invoices, allotments, vehicle waiver requests, awards, training, and software development. Also included are subject files of the ICASS Director and Deputy Director, handbooks containing policies and procedures, files of the ICASS Executive Board and the ICASS Working Group, and a database that is used for billing participating agencies for services. Also included are electronic copies of documents created using electronic mail and word processing.

17. Federal Emergency Management Agency, Office of Congressional and Legislative Affairs (N1-311-01-1, 2 items, 1 temporary item). Electronic copies of documents created using electronic mail and word processing that relate to bills pertaining to the agency's enabling legislation. Recordkeeping copies of these files are proposed for permanent retention.

18. Federal Retirement Thrift Investment Board, Office of Benefits and Investments (N1-474-00-6, 4 items, 4 temporary items). Files pertaining to Thrift Savings Plan management reports, including working papers, background materials, reports, and electronic copies created using word processing, electronic mail, data bases, and spreadsheet applications. Recordkeeping copies of these reports were previously approved for permanent retention.

19. National Archives and Records Administration (N1-GRS-01-1, 21 items, 21 temporary items). Addition to the General Records Schedules (GRS) for records accumulated by Federal agencies relating to ethics programs. Included are such files as ethics agreements, referrals and notifications of violations of criminal conflict of interest statutes, records relating to program reviews, questionnaires completed by agencies concerning their ethics programs, and ethics training and education records. Also included are electronic copies of records created using electronic mail and word processing. This schedule also proposes changes in the descriptions and disposition instructions for several series previously approved for disposal in the GRS that relate to the development and implementation of ethics regulations, financial disclosure reporting, and non-federally funded travel.

20. Office of Personnel Management, Office of the Chief Information Officer (N1-478-01-1, 4 items, 3 temporary items). Electronic and hard copy schedules of daily activities for high level and senior officials. Recordkeeping copies of schedules for the Director and Deputy Director are proposed for permanent retention.

21. Peace Corps, Information Resources Management (N1-490-01-1, 4 items, 4 temporary items). Records of the Year 2000 (Y2K) Working Group, including planning and policy records, country reports, and chronological files. Also included are electronic copies of documents created using electronic mail and word processing.

22. United States Census Monitoring Board, Presidential Members (N1-220-01-4, 20 items, 10 temporary items). Records of the Presidential members of the Board, including such records as video and audio recordings which have been transcribed, photographs of routine social events, working papers and research materials, copies of Bureau of the Census advertising and promotion files, public comments, and records related to the Board's web site. Also included are electronic copies of records created using electronic mail and word processing. Proposed for permanent retention are recordkeeping copies of such materials as meeting and testimony files, biographies and photographs, briefing books, correspondence files, legal opinions and decision memoranda, policy correspondence, strategy files, official reports, press releases, and a web site snapshot.

23. United States Census Monitoring Board, Congressional Members (N1-220-01-5, 21 items, 10 temporary items). Records of the Congressional members of the Board, including such records as video and audio recordings which have been transcribed, photographs of routine social events, working papers and research materials, copies of Bureau of the Census advertising and promotion files, public comments, and records related to the Board's web site. Also included are electronic copies of records created using electronic mail and word processing. Proposed for permanent retention are recordkeeping copies of such materials as meeting and testimony files, biographies and photographs, briefing books, correspondence files, legal opinions and decision memoranda, policy correspondence, strategy files, official reports, press releases, and a web site snapshot.

Dated: July 16, 2001.
Michael J. Kurtz,
Assistant Archivist for Record Services—Washington, DC.

[FR Doc. 01-18523 Filed 7-24-01; 8:45 am]

BILLING CODE 7515-01-U